DEPARTMENT OF ENERGY

Federal Energy Regulatory Commission

18 CFR Part 35

[Docket No. RM12-3-000; Order No. 770]

Revisions to Electric Quarterly Report Filing Process

AGENCY: Federal Energy Regulatory Commission, DOE.

ACTION: Final rule.

SUMMARY: The Federal Energy Regulatory Commission (Commission) amends its regulations to change the process for filing Electric Quarterly Reports (EQR). Due to technology changes that will render the current filing process outmoded, ineffective, and unsustainable, the Commission will discontinue the use of Commission-distributed software to file an EQR. Instead, the Commission adopts a web-based approach to filing EQRs that will allow a public or non-public utility to file an EQR directly through the Commission's Web site, either through a web interface or by submitting an Extensible Mark-Up Language-formatted file. By adopting a process with two options for filing EQRs, the Commission seeks to provide the flexibility needed to accommodate a public or non-public utility's technical preference. The Commission also requires a public or non-public utility to identify itself with a company identification number rather than the existing software-based EQR identifier. The changes to the process for filing EQRs will apply to EQR filings beginning with the third quarter 2013 EQR, which will provide data for July through September 2013.

DATES: Effective date: This rule will become effective April 1, 2013.

FOR FURTHER INFORMATION CONTACT:

Connie Caldwell, Office of Enforcement, Federal Energy Regulatory Commission, 888 First Street NE., Washington, DC 20426, (202) 502-6489, Connie.Caldwell@ferc.gov.

Christina Switzer, Office of General Counsel, Federal Energy Regulatory Commission, 888 First Street NE., Washington, DC 20426, (202) 502-6379, Christina.Switzer@ferc.gov.

SUPPLEMENTARY INFORMATION:

Before Commissioners: Jon Wellinghoff, Chairman; Philip D. Moeller, John R. Norris, Cheryl A. LaFleur, and Tony T. Clark.

Final Rule

(Issued November 15, 2012)

Table of Contents

| Paragraph Nos.
I. Introduction | 1
II. Background | 3
III. Discussion | 6
A. Need for Changing the Current EQR Filing Process | 6
1. NOPR Proposal | 6
2. Comments | 7
3. Commission Determination | 8
B. Option One—Web Interface | 9
1. NOPR Proposal | 9
2. Comments | 10
3. Commission Determination | 12
C. Option 2—XML-Formatted File | 16
1. NOPR Proposal | 16
2. Comments | 17
3. Commission Determination | 18
D. Validation | 19
1. NOPR | 19
2. Comments | 20
3. Commission Determination | 24
E. Company Registration System | 30
1. NOPR Proposal | 30
2. Comments | 31
3. Commission Determination | 33
F. Implementation and Compliance | 37
1. NOPR Proposal | 37
2. Comments | 38
3. Commission Determination | 47
IV. Information Collection Statement | 53
V. Environmental Analysis | 64
VI. Regulatory Flexibility Act | 65
VII. Document Availability | 71
VIII. Effective Date and Congressional Notification | 74
Appendix A: List of Commenters
Appendix B: EQR Data Dictionary

I. Introduction

1. The Federal Energy Regulatory Commission (Commission) adopts changes to the method for filing Electric Quarterly Reports (EQR). Due to technology changes that will render the current filing process outmoded, ineffective, and unsustainable, the Commission will discontinue the use of Commission-distributed software (EQR software) to file an EQR. Instead, the Commission adopts a web-based approach that will allow a public or non-public utility to file an EQR directly through the Commission's Web site, either through a web interface or by submitting an Extensible Mark-Up Language (XML)-formatted ¹ file (XML option). The Commission also requires a public utility or non-public utility to identify itself with a company identification number (Company Identifier) rather than the existing software-based EQR identifier (Personal Identification Number (PIN)). The changes to the process for filing EQRs will apply to EQR filings beginning with the third quarter (Q3) 2013 EQR, which will provide data for July through September 2013.

¹ XML schemas facilitate the sharing of data across different information systems, particularly via the Internet, by structuring the data using tags to identify particular data elements. For example, each filed EQR will include tags for the relevant information. The tagged information can be extracted and separately searched.

2. Before turning to the requirements in this Final Rule, it is important to explain certain terms. In the Notice of Proposed Rulemaking (NOPR), the Commission often used the term “filer” in the description of the two new filing options.² We find that using the term “filer” created confusion because it was not clear whether the Commission was talking about a public or non-public utility, its agent, or a respondent. Thus, in this Final Rule, we use the phrase “EQR seller” to mean companies that are authorized to sell power under Part 35 of the Commission's regulations ³ as well as non-public utilities ⁴ that are required to comply with the EQR filing requirements pursuant to the Electricity Market Transparency Provisions of Section 220 of the Federal Power Act, Order No. 768.⁵ We use the phrase “EQR agent” to mean an entity that an EQR seller designates to file on its behalf. An EQR seller will be able to designate multiple EQR agents.⁶ Even when an EQR agent files on an EQR seller's behalf, the legal obligation for complying with the EQR requirements remains with the companies that are authorized to sell power under Part 35 of the Commission's regulations and non-public utilities, and any inaccuracies are their responsibility.

² Revisions to Electric Quarterly Report Filing Process, Notice of Proposed Rulemaking, FERC Stats. & Regs. ¶ 32,689 (2012) (NOPR).

³ See Revised Public Utility Filing Requirements, Order No. 2001, 67 FR 31044 (May 8, 2002), FERC Stats. & Regs. ¶ 31,127 at 30,116, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, at PP 10-11, order on reh'g and clarification, Order No. 2001-H, 73 FR 1876 (Jan. 10, 2008), 121 FERC ¶ 61,289 (2007), order revising filing requirements, Order No. 2001-I, 73 FR 65526 (Nov. 4, 2008), FERC Stats. & Regs. ¶ 32,282 (2008).

⁴ “Non-public utility” refers to a market participant that is not a public utility under section 201(f) of the FPA. FPA section 201(f) provides: No provision in this Part shall apply to, or be deemed to include, the United States, a State or any political subdivision of a State, an electric cooperative that receives financing under the Rural Electrification Act of 1936 (7 U.S.C. 901 et seq.) or that sells less than 4,000,000 megawatt hours of electricity per year, or any agency, authority, or instrumentality of any one or more of the foregoing, or any corporation which is wholly owned, directly or indirectly, by any one or more of the foregoing, or any officer, agent, employee of any of the foregoing acting as such in the course of his official duty, unless such provision makes specific reference thereto. 16 U.S.C. 824(f).

⁵ 77 FR 61896 (Oct. 11, 2012), FERC Stats. & Regs. ¶ 31,336 (2012)(Transparency Rule). In that rulemaking, the Commission extended the EQR filing requirements to non-public utilities above a de minimis market presence threshold and adopted new filing requirements for both public and non-public utilities.

⁶ The process for designating an EQR agent is discussed in detail below. See supra, section III.E.

II. Background

3. The purpose of the EQR is to

make available for public inspection, in a convenient form and place all relevant information relating to public utility rates, terms, and conditions of service; ensure that information is available in a standardized, user friendly format; and meet the Commission's electronic filing option obligation. [Footnote omitted.] These actions also will allow the public to better participate in and obtain the full benefits of wholesale electric power markets while minimizing the reporting burden on public utilities.⁷

⁷ Order No. 2001, FERC Stats. & Regs. ¶ 31,127 at 30,116.

The EQR allows public utilities to fulfill their responsibility under section 205(c) ⁸ of the FPA to have rates on file in a convenient form and place.⁹ Non-public utilities will file EQRs to meet the requirements under section 220 of the FPA,¹⁰ as explained in the Electricity Market Transparency Provisions of Section 220 of the Federal Power Act, Order No. 768.¹¹

⁸ 16 U.S.C. 824d(c).

⁹ Order No. 2001, FERC Stats. & Regs. ¶ 31,127 at P 31.

¹⁰ EPAct 2005, Public Law 109-58, 119 Stat. 594 (2005).

¹¹ Transparency Rule, FERC Stats. & Regs. ¶ 31,336. In that rulemaking, the Commission extended the EQR filing requirements to non-public utilities above a de minimis market presence threshold and adopted new filing requirements for both public and non-public utilities.

4. Prior to the issuance of Order No. 2001, the Commission required all public utilities to file in paper format all short-term and long-term service agreements for cost-based and market-based power sales as well as service agreements for generally applicable services (such as point-to-point transmission service). In Order No. 2001, the Commission replaced the paper filing requirement with an electronic filing requirement.¹²

The Commission specified that EQRs should “be prepared in conformance with the Commission's software and guidance posted and available for downloading from the FERC Web site (http://www.ferc.gov).” ¹³ Since the fourth quarter of 2002, the Commission has posted on its Web site a Commission-developed Visual FoxPro application for filing EQRs (EQR software) that runs on Microsoft Windows-based computers.¹⁴

¹² The Commission has refined and clarified the EQR filing requirements set forth in Order No. 2001 in response to changes in the industry and the Commission's rules and regulations. For example, the Commission has required EQR sellers to report all transmission capacity reassignments and proposed to revise the EQR Data Dictionary to add “Simultaneous Exchange” to the list of available product names. See Preventing Undue Discrimination and Preference in Transmission Service, Order No. 890, 72 FR 12266 (Mar. 15, 2007), FERC Stats. & Regs. ¶ 31,241, at P 817, order on reh'g, Order No. 890-A, 73 FR 2984 (Jan. 16, 2008), FERC Stats. & Regs. ¶ 31,261 (2007), order on reh'g and clarification, Order No. 890-B, 73 FR 39092 (July 8, 2008), 123 FERC ¶ 61,299 (2008), order on reh'g, Order No. 890-C, 74 FR 12540 (Mar. 25, 2009),126 FERC ¶ 61,228 (2009), order on clarification, Order No. 890-D, 74 FR 61511 (Nov. 25, 2009), 129 FERC ¶ 61,126 (2009); Revised Public Utility Filing Requirements for Electric Quarterly Reports, Notice of Proposed Rulemaking, 77 FR 16494 (Mar. 21, 2012), FERC Stats. & Regs. ¶ 32,687 (2012).

¹³ 18 CFR 35.10b.

¹⁴ See Notice Providing Detail On Electric Quarterly Reports Software Availability and Announcing Schedule for Software Demonstrations, Docket No. RM01-8-000 (Dec. 20, 2002).

5. On June 21, 2012, the Commission issued a NOPR in this proceeding to propose changes to the EQR electronic filing process.¹⁵ On July 11, 2012, the Commission held a technical conference to present the two new proposed options for filing EQRs. On July 27, 2012, the Commission posted on its Web site a draft of the XML schema (draft XML schema) for the proposed XML option so that interested parties would be able to view the draft XML schema prior to submitting comments on the NOPR.¹⁶ The Commission also posted a “Frequently Asked Questions” document on its Web site in response to questions raised at the July 11 technical conference.¹⁷ The Commission received eight comments in response to the NOPR.¹⁸

¹⁵ NOPR, FERC Stats. & Regs. ¶ 32,689.

¹⁶ Notice of Availability of Draft XML Schema, Docket No. RM12-3-000 (July 27, 2012). The draft XML-schema is available on the Commission's Web site at http://www.ferc.gov/docs-filing/eqr.asp.

¹⁷ The Frequently Asked Questions document is also available on the Commission's Web site at http://www.ferc.gov/docs-filing/eqr.asp.

¹⁸ See Appendix A for a list of commenters and their abbreviated names used here. We note that Southern California Edison joins EEI's comments.

III. Discussion

A. Need for Changing the Current EQR Filing Process

1. NOPR Proposal

6. In the NOPR, the Commission stated that, pursuant to the Commission's regulations,¹⁹ EQR sellers and agents must download EQR software from the Commission's Web site. The Commission explained that this software was built with Visual FoxPro development tools and must be installed on a Windows-based computer. The Commission identified certain disadvantages with the current filing process, such as the fact that Microsoft, the vendor of Visual FoxPro, announced in 2007 that it would no longer sell or issue new versions of Visual FoxPro and would not provide support for the software after 2015. The Commission also explained that data limitations make the EQR software outmoded, ineffective, and unsustainable.²⁰ The Commission stated that the changes proposed in the NOPR support the goals of Executive Order 13579 ²¹ because the Commission proposed to modify a filing process that has become outmoded and ineffective. ²²

¹⁹ 18 CFR 35.10b.

²⁰ NOPR, FERC Stats. & Regs. ¶ 32,689 at P 4.

²¹ Regulation and Independent Regulatory Agencies, Exec. Order 13579, 76 FR 41587 (2011). Through this Executive Order, the President requested that executive agencies retrospectively analyze their agency's rules and that those found to be outmoded, ineffective, insufficient, or excessively burdensome be modified, streamlined, expanded, or repealed in accordance with the results of that analysis.

²² NOPR, FERC Stats. & Regs. ¶ 32,689 at P 5.

2. Comments

7. Commenters understand the technical limitations of the existing software and the Commission's decision to discontinue it.²³ Pacific Gas and Electric commends the Commission for its ongoing efforts to enhance the efficiency of the EQR data gathering and reporting process.²⁴

²³ See, e.g., Idaho Power at 2; Pacific Gas and Electric at 1.

²⁴ Pacific Gas and Electric at 1.

3. Commission Determination

8. We conclude that the proposed changes to the method for filing EQRs are appropriate. As explained in the NOPR, continuing to rely on the current EQR software is unsustainable because Microsoft will no longer sell or issue new versions of Visual FoxPro.²⁵ Further, the data limitations of the current software make it untenable for use going forward.²⁶ As the Commission also explained, the move from a software-based approach to a web-based approach will eliminate the need for EQR sellers and agents to download software from the Commission's Web site.²⁷ In addition, a web-based approach for EQR filing is device-independent, which eliminates the need for EQR sellers and agents to use a Windows-based computer to file an EQR.²⁸ We also note that the new filing process will allow EQR sellers and agents to access and revise EQR data filed prior to Q3 2013.

²⁵ NOPR, FERC Stats. & Regs. ¶ 32,689 at P 4.

²⁶ Id.

²⁷ Id. P 6.

²⁸ Id.

B. Option One—Web Interface

1. NOPR Proposal

9. In the NOPR, the Commission proposed to offer a web interface on the Commission's Web site that allows EQR sellers and agents to continue to enter data in the comma-delimited text (CSV) format but without the need to download the EQR software.²⁹ The Commission stated that this option would minimize the changes for EQR sellers and agents and streamline the filing process by eliminating the need for EQR sellers and agents to enter or import the data into a software application.

²⁹ Id.

2. Comments

10. Commenters generally support the web interface option as long as the transition from the current filing process is not overly difficult or costly.³⁰ Some commenters argue that they cannot fully comment on the web interface option without a live demonstration.³¹ EEI believes that the web interface will allow (1) companies to upload complete sets of data from prior EQRs, and then edit the information to reflect changes in the current quarter, rather than having to start each new EQR from a blank slate; (2) companies to upload new data in the same CSV format as the current software; and (3) multiple staff within each company or outside the company with the company's permission to fill out and review portions of an EQR, though only one person can be editing a particular EQR at any one time.³²

³⁰ See, e.g., EEI at 4; Energy Services Providers at 3; Idaho Power at 3.

³¹ See, e.g., Idaho Power at 3; Pacific Gas and Electric at 4-5.

³² EEI at 5.

11. EPSA requests that the Commission clarify that the proposed web interface option will be a long-term alternative to the XML option that will not be phased out in favor of the latter.³³

³³ EPSA at 3.

3. Commission Determination

12. We adopt the web interface as one of two new EQR filing options. As explained in the NOPR, this option will minimize the changes for EQR sellers and agents and streamline the filing process by eliminating the need for EQR sellers and agents to first enter or import the data into a software application then send it, via Internet, to the Commission. We are offering this option to make the transition from the current EQR software to the web interface minimally disruptive. We direct Commission staff to continue to be available to answer questions, conduct technical conferences, and post guidance documents on the Commission's Web site as needed.

13. We emphasize that, as explained in the NOPR, the web interface will allow EQR sellers and agents to continue to enter data in much the same way as they currently do: By entering individual fields by hand (an option used primarily by EQR sellers that have little data to report) or by uploading data in CSV format. Also, we note that, except for minor changes, the data elements of the EQR will remain the same.³⁴

³⁴ The only proposed changes to the EQR data elements adopted here relate to the addition of a field for the identification of the EQR seller and the elimination of the respondent field. See discussion infra section III.E. For recent changes to the EQR filing requirements, see Transparency Rule, FERC Stats. & Regs. ¶ 31,336.

14. We also point out that, in designing the web interface, Commission staff has sought to provide the same, if not better, functionality than is provided in the current EQR software. For example, once one quarter has been filed in the web interface, a copy forward function will allow EQR sellers and agents to copy forward complete sets of identification and contract data and then edit the data to reflect changes in the current quarter.³⁵ Also, an EQR seller will be able to designate more than one EQR agent to input data on its behalf. Finally, the use of a web interface will minimize, if not eliminate, many common EQR filing problems that are due to (1) conflicts between the current EQR software and other software on the EQR seller or agent's computer or (2) issues associated with initiating and supporting the communication functions of the current EQR software.

³⁵ To assist in the transition to the web interface option, the EQR seller or agent can import contract data from the Q2 2013 EQR filing made via the current EQR software into the new web interface after the file is revised to accommodate any new required fields. See discussion infra section III.F. However, as under the current EQR software, the web interface will not permit the EQR seller or agent to copy transaction data forward because the transactions must correspond to the EQR's designated calendar quarter.

15. Finally, we intend to support the web interface option until such time as it is no longer needed.

C. Option 2—XML-Formatted File

1. NOPR Proposal

16. In the NOPR, the Commission proposed a second EQR filing option that allows EQR sellers and agents to file EQR data via XML-formatted files.³⁶ The Commission identified various advantages to the XML option. For example, an XML schema allows EQR sellers and agents to test whether their data is consistent with the filing standards before uploading it to the Commission, thereby improving their ability to comply with the EQR filing requirement and increasing confidence that the Commission receives the intended information.³⁷

³⁶ NOPR, FERC Stats. & Regs. ¶ 32,689 at P 7.

³⁷ Id.

2. Comments

17. Pacific Gas and Electric believes that the XML option is a promising solution.³⁸ Pacific Gas and Electric states that the XML format provides the greatest flexibility for processing large amounts of data and the greatest opportunity to accurately validate data. However, Pacific Gas and Electric notes that converting data to XML format requires a software program, authored in-house or by a vendor, that can create, submit, and store and manage the EQR report.³⁹ Idaho Power supports this filing option if it is similar to the current filing method and is not overly burdensome and/or does not require major changes to Idaho Power's internal systems.⁴⁰ Other commenters do not object to the XML option if it is voluntary and not the sole means of submission.⁴¹ EEI supports allowing companies to switch between the web interface and XML options from one EQR to another.⁴²

³⁸ Pacific Gas and Electric at 6.

³⁹ Id. at 5.

⁴⁰ Idaho Power at 2.

⁴¹ See, e.g., EEI at 7; Energy Services Providers at 3; EPSA at 4; Idaho Power at 4-5.

⁴² EEI at 7.

3. Commission Determination

18. We adopt the XML option as the second of two new filing options. This option allows EQR sellers and agents to file their EQR data in an XML-formatted file. While we find that allowing EQR sellers and agents to use the XML option offers several advantages, as highlighted by Pacific Gas and Electric, and will facilitate the filing of EQRs, we stress that using the XML option is voluntary. Alternatively, EQR sellers and agents can choose to file via the web interface. An EQR seller may use the web interface to file their EQR for one quarter and use the XML option to file their EQR in another quarter, but an EQR seller cannot use both options to file its EQR in the same quarter.

D. Validation

1. NOPR

19. In the NOPR, the Commission explained that an XML schema includes rules and data checks. This allows EQR sellers and agents to test the consistency of their data with the Commission's filing standards, thereby improving the ability to comply with EQR filing requirements and ensures that the Commission receives the intended information.⁴³ The Commission further noted in the NOPR that these data checks are not available in a CSV file.

⁴³ NOPR, FERC Stats. & Regs. ¶ 32,689 at P 7.

2. Comments

20. Energy Compliance Consulting requests that the Commission make available as soon as possible all of the criteria that the Commission will use to validate an EQR prior to its acceptance for filing.⁴⁴ Energy Compliance Consulting notes that, contrary to the statement in the posted FAQ document, the draft XML schema posted on the Commission's Web site contains data elements that EQR filers are not currently required to provide.⁴⁵ Energy Compliance Consulting requests that the Commission explain this discrepancy.⁴⁶

⁴⁴ Energy Compliance Consulting at 3.

⁴⁵ Id. at 2-3.

⁴⁶ Id. at 3.

21. EPSA argues that any new filing method should meet or exceed the validation capabilities of the Visual FoxPro-based EQR software.⁴⁷ EPSA asserts that EQR users have not been presented with meaningful information on how validation checks will be designed for either the web interface or the XML filing option.⁴⁸ EEI believes that the web interface will allow companies to upload, edit, and check for errors in the data before actually filing the EQR; provide pre-filing error checks and validations for completeness and compliance with filing requirements; and provide error messages to allow companies to correct problems before filing their EQRs.⁴⁹ EEI and Links Technology Solutions ask that the Commission provide a permanent testing facility (sandbox), like the eTariff sandbox test site, so that filers can check the basic construction of their XML files and perform basic types of data checks.⁵⁰

⁴⁷ EPSA at 4-5.

⁴⁸ EPSA at 5.

⁴⁹ EEI at 5.

⁵⁰ See, e.g., EEI at 8; Links Technology Solutions at 2.

22. Based on information provided during the technical conference, Pacific Gas and Electric argues that providing email notification for any validation errors encountered during upload may cause a significant delay in correcting errors and providing timely EQRs.⁵¹ Pacific Gas and Electric claims that using email messages reduces EQR filers' ability to be quickly alerted of validation errors, which undercuts the Commission's effort to create a new system on par with, or better than, the Visual FoxPro-based EQR software.⁵² Pacific Gas and Electric suggests the web-based system should (1) include on-screen error reports that are interactive (with links to the error records) or a user-friendly form (like a spreadsheet) that allows the EQR filer to immediately and accurately address validation errors, and (2) allow batch corrections to the error records.⁵³ Pacific Gas & Electric notes that generally accepted data validation rules, which require the validation process to stop when a critical error is detected, leave open the possibility that after receiving an error notification and remedying a set of errors, an EQR filer could receive further error messages every time the validation routine stops because a critical error is detected.⁵⁴ Pacific Gas and Electric is concerned about the impact of this process on timely EQR filing.⁵⁵

⁵¹ Pacific Gas and Electric at 7.

⁵² Id.

⁵³ Id.

⁵⁴ Id.

⁵⁵ Id. at 7-8.

23. Pacific Gas and Electric also states that, while it generally supports the Commission's proposal to alter the EQR user authentication methodology, it is concerned about who will have access to the sandbox.⁵⁶ Pacific Gas and Electric asserts that restricting access to only those people authorized to file on behalf of a client, as suggested at the technical conference, will reduce the filing entities' current ability to allow anyone within a given company to download a copy of the current EQR distributed software, load data, and run validation checks to test some or all of its filing data.⁵⁷ Thus, Pacific Gas and Electric requests that the Commission provide authentication protocols in the new system that address these concerns.⁵⁸

⁵⁶ Id. at 8.

⁵⁷ Id.

⁵⁸ Id.

3. Commission Determination

24. We find that the validation process in the web interface and XML-format options will be similar to or better than the validation process in the current EQR software. We further find that the validation processes strike an appropriate balance between the needs identified by commenters and the Commission's resources. We appreciate Energy Compliance Consulting's request that all the criteria which will be used to validate an EQR filing prior to its acceptance be made available as soon as possible. The validation criteria are currently under development, and the Commission will make these available to the public as soon as they are complete. As for the discrepancy between the posted draft XML schema and FAQ document, we note that the draft XML schema mistakenly included additional data elements that were not included in the NOPR.

25. Under both of the new EQR filing options, EQR sellers and agents will be able to log into their eRegistration accounts, load data and run the validation check. Once an EQR is submitted, the EQR seller or agent that submitted the EQR will receive the following three emails: (1) A receipt email that acknowledges that the EQR has been received; (2) a validation email that will list any business rule errors, such as listing a transaction under a contract without entering the contract in the contract section; and (3) an acceptance/rejection email stating that the EQR is accepted if all validations are passed or is rejected if any validations fail. The EQR seller and all of its designated EQR agents will receive the validation email and the acceptance/rejection email. The validation email will provide a list of the errors that are contained in submitted data. The system will review the entire submission prior to creating and sending the validation report. Due to the number of potential occurrences, the report may not list all instances of the error, but the EQR seller or agent will be alerted that that type of error has occurred. Once the EQR seller or agent has found and corrected all errors in the submission, the EQR data will be accepted for filing.

26. In addition, both filing options will include a “Test Only” option so that EQR sellers and agents can submit their filing for data validation prior to final submission. With respect to the web interface option, we also have taken steps to address EPSA's request for in-time validation checks by including some validation checks that will appear on-screen as the EQR seller or agent inputs the data. These validation checks are the same as or similar to the validation checks that appear when an EQR seller or agent uses the current EQR software. For example, an on-screen error message will appear if a field is left empty that must be filled, or if an alphabetical character is entered in a numeric field. After the EQR seller or agent submits its filing, it will receive a validation email that will provide business logic and data format errors and line numbers within the body of the email.

27. Pacific Gas and Electric expressed concern that the issuance of validation emails after the occurrence of each critical error may slow the filing process. We are not able to avoid the additional time that the detection of multiple critical errors will add to the filing process. Validating for business logic errors after a filing is submitted will allow the Commission to maintain the system during high volumes of filings. However, we note that EQR sellers and agents will have the option to run a data validation check prior to submitting the EQR to the Commission using the “Test Only” feature, which should help alleviate Pacific Gas and Electric's concerns. Moreover, the Commission expects that the new EQR filing process will be able to process revised EQR data more quickly and efficiently because it will have the ability to process only revised data, rather than needing to process the entire data set to overwrite the previously submitted data, as currently is the case. By decreasing the amount of processing capability needed for data updates, the Commission will increase the available computer capacity for processing the simultaneous filing of EQRs, resulting in quicker processing of both EQRs and revised EQRs. We also encourage EQR sellers and agents to submit EQRs early in the filing period, which starts on the first day after the end of the quarter providing an entire month to validate the data.

28. With respect to the XML option, we do not find an eTariff type sandbox is necessary because the ability to test an EQR filing is integrated into the new system. Specifically, XML files can be imported into the Web interface, where the EQR seller or agent can select the “Test Only” option to receive the validation email for that EQR filing. Additionally, EQR sellers and agents may use one of many XML parser programs available free on-line to check whether their XML file is consistent with the EQR XML schema. The parser will check for data formatting errors, which an EQR seller or agent can then correct. If there are business logic errors that were undetected by the parser, a validation email will notify the EQR seller and agent contacts.

29. We decline to adopt Pacific Gas and Electric's request to include the ability to perform batch corrections to records that contain errors. The current EQR software does not provide a way to perform batch corrections; and we are not persuaded to include that capability in the new filing options. This correction method could arbitrarily and incorrectly change the contents of an EQR. We note, however, that EQR sellers and agents who intend to file by uploading CSV or XML files can develop their own batch correction processes to respond to validation errors.

E. Company Registration System

1. NOPR Proposal

30. In the NOPR, the Commission proposed to replace the PIN number identification system with the Company Registration System used for eTariff filings.⁵⁹ The Commission explained that the PIN system is part of the EQR software, and as part of the transition away from this software application, the Commission must provide a new manner to identify EQR sellers. The Commission stated that, as part of the development of the eTariff system, the Commission directed each publicly regulated company to file its tariffs, rate schedules, jurisdictional contracts, and other jurisdictional agreements with a Company Identifier. Accordingly, the Commission stated that it does not anticipate that the use of a Company Identifier in the EQR filing process will create an undue burden for publicly regulated companies that file their Commission-jurisdictional tariffs and agreements because they already have Company Identifiers. The Commission also stated that it did not anticipate that the use of the Company Identifier will be unduly burdensome for an EQR filer that does not have an existing Company Identifier because the registration process on the Commission's Web site is straightforward and no more difficult than the current filer identification process. The Commission also noted that an advantage of using the Company Identifier for EQR filings is that it will make filer identification consistent with other filings.⁶⁰

⁵⁹ NOPR, FERC Stats. & Regs. ¶ 32,689 at P 9.

⁶⁰ Id.

2. Comments

31. EEI supports the Commission's plan to continue to accommodate a wide variety of EQR filing arrangements, including (1) filings submitted on behalf of respondents that are not registered companies (i.e., entities that do not have Company Identifiers); (2) a single respondent filing on behalf of multiple sellers; (3) a single seller submitting multiple EQRs for the same quarter through different respondents; (4) a seller that consists of multiple registered companies or an unregistered service company; and (5) law-firm personnel and others filing as agents for respondents.⁶¹ However, EEI states that the Commission may need to provide additional flexibility as to individuals and entities that can register and obtain a Company Identifier using the eRegistration system.⁶² EEI asks the Commission to allow filings by anyone who has the necessary Company Identifier and password without limiting filings to a pre-approved list of specific individuals.⁶³ EEI urges the Commission to post instructions for company registration similar to the instructions that the Commission posted for company registration for eTariff.⁶⁴

⁶¹ EEI at 3.

⁶² Id. at 4. This document is located on the Commission's Web site at http://www.ferc.gov/docs-filing/company-registration-instruct.pdf, and the current version is dated October 6, 2011.

⁶³ Id.

⁶⁴ Id. (citing FERC Secretary of the Commission, eTariff Instructions for Company Registration (2009), http://www.ferc.gov/docs-filing/company-registration-instruct.pdf (The Commission up-dated the instructions on October 6, 2011)).

32. Based on information provided at the technical conference, EPSA asks the Commission to reconsider requiring companies to designate in advance of making a filing who is authorized to make EQR filings.⁶⁵ EPSA states that its members have cautioned that requiring companies to designate in advance who is permitted to file their EQRs may prove more unwieldy than anticipated.⁶⁶ EPSA states that its members own numerous project companies and that the administrative burden associated with initially designating agents and back-up agents on what could be over fifty company registrations and changing each of those delegations in anticipation of staffing changes or in case of emergencies is unnecessary.⁶⁷ EPSA further states that there are already security protections in place to ensure an authorized person is making filings with the Commission.⁶⁸ Finally, EPSA asserts that, because Commission staff's approval of modifications to a company's registration can take up to 24 hours to become effective, a company's filing may become untimely.⁶⁹ EPSA states that, in the eTariff context, where delegations are not needed and thus modifications to company registration are not routine, the modification of company registrations has delayed filings.⁷⁰

⁶⁵ EPSA at 5.

⁶⁶ Id.

⁶⁷ Id.

⁶⁸ Id. at 6.

⁶⁹ Id.

⁷⁰ Id.

3. Commission Determination

33. The Commission adopts the requirement for EQR sellers to identify themselves using a Company Identifier. As explained in the NOPR, the PIN system is part of the current EQR software. Therefore, as part of the transition away from the EQR software, the Commission must provide a new manner to identify EQR sellers. Instead of building a new identification system for submitting EQRs, we will utilize the company registration system that was created for eTariff. Using the company registration system to identify EQR sellers allows the Commission to make filer identification consistent with other Commission filings and is familiar to public utilities that use eTariff. Under the new EQR filing system, all EQR sellers will be identified in EQR filings by their Company Identifier.⁷¹

⁷¹ The current PIN system requires an EQR seller to share its PIN and password with all individuals that it wants to allow to file on its behalf, and we do not consider this to be a safe practice. We believe that this creates the potential for unanticipated problems and that it is not the most secure method of filing.

34. To make an EQR filing, the EQR seller will request a Company Identifier through the Commission's Company Registration System.⁷² The EQR seller will be able to maintain a list of eRegistered EQR agents whom the EQR seller has authorized to submit EQR filings on its behalf.⁷³ An EQR seller can designate multiple individuals as its agents. The EQR agent will use its eRegistration account to log onto FERC Online,⁷⁴ and select from a list of EQR seller(s) that have designated the individual as EQR agent.

⁷² See http://www.ferc.gov/docs-filing/company-reg.asp. Many EQR sellers have a Company Identifier and do not need to request a new Company Identifier. If an EQR seller is not sure whether it already has a Company Identifier, it can check the list of Company Identifiers on the Commission's Web site at http://www.ferc.gov/industries/electric/gen-info/reg-ent.asp.

⁷³ An individual must eRegister before an EQR seller can designate that person as an EQR agent. See http://www.ferc.gov/docs-filing/eregistration.asp.

⁷⁴ See http://www.ferc.gov/docs-filing/ferconline.asp.

35. We understand that requiring EQR sellers to designate agents that have eRegistered is more burdensome than the current system. However, after the initial burden of designating EQR agents, we anticipate that it will be minimally burdensome for an EQR seller to manage its EQR agent list. For instance, since an EQR seller may designate an unlimited number of agents, if one agent is unable to file in a given quarter, another agent will be able to make the filing. Finally, in response to EPSA's concern, Commission staff will not review changes that a company makes to the list of EQR agents associated with its Company Identifier account. These changes will be instantaneous.⁷⁵

⁷⁵ We note that Commission staff does review applications for a Company Identifier account and that review can take up to several days.

36. We note that the new identification system will provide an electronic record of the EQR agent(s) that have filed an EQR on behalf of an EQR seller. Accordingly, we will eliminate the respondent fields from the EQR data dictionary because it no longer provides useful information to the Commission or the public. We are aware that some companies use the respondent field to indicate that a service company or parent company is filing on behalf of several operating companies or affiliates that are the EQR sellers. While a parent company or service company may file EQRs on behalf of EQR sellers, an individual will need to be eRegistered and designated as an agent of the EQR sellers. The designated agent may then file an EQR on behalf of the EQR seller. EEI also suggests that an EQR seller could be a service company. We note that a service company may be listed as an EQR seller if the service company is authorized to sell power under Part 35 of the Commission's regulations, or if a public utility's tariff authorizes the service company to act on its behalf.⁷⁶

⁷⁶ See Order No. 2001-G, 120 FERC ¶ 61,270 at PP 10-11 (“the agent may be identified as the Seller if the company's tariff authorizes the agent to make the sales.”).

F. Implementation and Compliance

1. NOPR Proposal

37. In the NOPR, the Commission proposed that implementation of any changes to the process for filing EQRs will apply to EQR filings beginning with the Q3 2013 EQR, providing data for July through September 2013.⁷⁷ The Commission stated that implementing the changes within that time period should provide EQR sellers with sufficient time to weigh the two options and file their Q3 2013 EQR in a timely manner.

⁷⁷ NOPR, FERC Stats. & Regs. ¶ 32,689 at P 11.

2. Comments

38. Some commenters request that the Commission extend the compliance date.⁷⁸ For example, EEI requests that the compliance date be at least one full year after the Commission issues a Final Rule and the EQR filing web interface is pre-tested, corrected, and available for general use before withdrawing the current FoxPro-based software filing option.⁷⁹ EEI states that this time would give companies a chance to test the new web interface and iron out any problems before the current FoxPro-based software is no longer an option.⁸⁰

⁷⁸ See, e.g., EEI at 8; Links Technology Solutions at 2; Pacific Gas and Electric at 6.

⁷⁹ EEI at 8.

⁸⁰ EEI at 8.

39. As for the XML filing option, commenters argue that it takes at least 12 months to develop and test software to file in XML and to train staff on using the software.⁸¹ Pacific Gas and Electric states that software vendors cannot design and offer products to customers until they have a final XML schema document.⁸² Pacific Gas and Electric asserts that it is only after vendors make their products available that customers can evaluate and purchase products, and begin retooling their internal business processes to accommodate the new EQR requirements.⁸³ Thus, Pacific Gas and Electric requests that the Commission give regulated entities one year from the date a Final Rule is published in the Federal Register to make the necessary internal data collection changes and to acquire, install, and test the software to file new-system EQR submittals.⁸⁴ Similarly, EEI requests that the Commission provide a full year after it issues a final XML Data Structure and XML Data Values, holds a technical conference to discuss the XML filing option, and issues a Final Rule in this proceeding before withdrawing the current software.⁸⁵

⁸¹ See, e.g., EEI at 8; Pacific Gas and Electric at 6.

⁸² Pacific Gas and Electric at 6.

⁸³ Pacific Gas and Electric at 6.

⁸⁴ Pacific Gas and Electric at 6.

⁸⁵ EEI at 8.

40. Several commenters assert that the Commission should conclude any other EQR-related rulemakings before changing the EQR filing process so that filers do not need to modify their system multiple times.⁸⁶ In addition, EEI also states that the Commission will need to keep the web interface and XML schema up-to-date to accommodate any future changes to the EQR, providing adequate notice of such changes and time for EQR filers and software vendors to adopt the changes.⁸⁷

⁸⁶ See, e.g., EEI at 9-10; Energy Compliance Consulting at 2; EPSA at 6, 9-10.

⁸⁷ EEI at 10.

41. EEI and Idaho Power recommend that the Commission allow filers to file their EQR in the current software and proposed new web interface during the transition period.⁸⁸ Idaho Power recommends that the Commission do so for a minimum of two reporting periods after the proposed implementation date listed in the NOPR.⁸⁹ EEI asserts that this time would ensure that filers will not be penalized because of problems with the web interface or XML option.⁹⁰ Idaho Power states that this grace period will give filers time to transition, train, and modify existing internal systems.⁹¹ In the alternative, Idaho Power recommends and supports thorough testing by a representative sample of filers prior to the proposed implementation date in the NOPR to identify and correct system issues.⁹²

⁸⁸ See, e.g., EEI at 9; Idaho Power at 3-4.

⁸⁹ Idaho Power at 3.

⁹⁰ EEI at 9.

⁹¹ Idaho Power at 3.

⁹² Id. at 4.

42. Several commenters request that the Commission hold a second technical conference that includes a live demonstration of the new filing options.⁹³ Idaho Power states that Commission staff should provide a thorough live demonstration of the proposed web interface, including but not limited to walking through the steps of a complete start to finish EQR filing.⁹⁴ Energy Compliance Consulting states that the demonstration should show more completely how filers will interact with the software and include the submission of very large files and files with numerous errors so that prospective users will know how the system will present those errors and what the time will be compared to the current EQR software.⁹⁵ EEI states that the demonstration should be available by computers and should accommodate questions and provide answers in real time, similar to an EQR user group conference call.⁹⁶ Pacific Gas and Electric requests that the Commission schedule another technical conference in the near future to further present system functionalities and capabilities because a Final Rule in this matter may establish a level of certainty about the technical functions and behavior of the new system on both the server and client side of the equation.⁹⁷

⁹³ See, e.g., EEI at 6; Energy Compliance Consulting at 4; Idaho Power at 4; Pacific Gas and Electric at 9.

⁹⁴ Idaho Power at 4.

⁹⁵ Energy Compliance Consulting at 4.

⁹⁶ EEI at 7.

⁹⁷ Pacific Gas and Electric at 9.

43. EEI asserts that filers and vendors may have questions about adopting the structure and values for use in filing EQR data in XML format.⁹⁸ Therefore, EEI encourages the Commission to hold a conference call/meeting to discuss the XML option only so that the Commission can answer questions about use of the data structure and values, correct problems, and help avoid errors in use of the option.⁹⁹

⁹⁸ EEI at 7.

⁹⁹ Id. at 7-8.

44. Some commenters recommend that the Commission work with companies and software vendors to test the proposed new web interface before it goes public.¹⁰⁰ EEI states that problems may include missing functions that the software currently provides, inability to upload data required in various columns or rows, errors in how the web interface handles data being uploaded, or unclear filing instructions.¹⁰¹ EEI encourages the Commission to ensure that the new web interface is fully tested for anomalies and corrected to remove problems before it is made available for general use.¹⁰² EEI offers to ask for volunteers for this effort from among its members.¹⁰³

¹⁰⁰ See, e.g., EEI at 6; Energy Compliance Consulting at 5.

¹⁰¹ EEI at 6.

¹⁰² Id. at 5-6.

¹⁰³ Id. at 6.

45. CAISO and Idaho Power state that, based on the technical conference and FAQ document, it appears as though the copy forward function will not be available for the initial Q3 2013 EQR filing so that respondents will be responsible for transferring all data to the new web interface.¹⁰⁴ CAISO and Idaho Power assert that requiring respondents to enter all of the pre-existing data manually rather than through an automated procedure would be burdensome and strain filers' time and resources.¹⁰⁵ Idaho Power requests that the Commission develop an automated method, or provide detailed instructions on how to load or transfer the existing data from the FoxPro system into the new system for the initial web interface filing.¹⁰⁶ Similarly, CAISO argues that the Commission should be responsible for populating the database that underlies the new web interface with the data from the EQR respondents' Q2 2013 EQR.¹⁰⁷ CAISO asserts that the Commission already will possess all of the data submitted by respondents for Q2 2013 EQR, and thus be better situated to perform the necessary data transfer.¹⁰⁸ CAISO also asserts that it is concerned that errors may be introduced into the data if the process of incorporating previously submitted data is made more complicated than the current copy forward method.¹⁰⁹

¹⁰⁴ CAISO at 4; Idaho Power at 4.

¹⁰⁵ CAISO at 3; Idaho Power at 4.

¹⁰⁶ Idaho Power at 4.

¹⁰⁷ CAISO at 3-4.

¹⁰⁸ Id. at 3.

¹⁰⁹ Id. at 4-5.

46. EEI states that the proposed changes to the regulatory text are too ambiguous, particularly the reference to “as otherwise provided to the public” because it does not specify where and how the Commission will provide such guidance.¹¹⁰ EEI also suggests that the Commission publish notices in the Federal Register anytime the Commission posts generally applicable guidance or similar documents on the Commission's Web site to ensure that the regulated community has prompt and adequate notices of the new information.¹¹¹ Thus, EEI recommends that the Commission modify the proposed regulatory text to read, “Electric Quarterly Reports must be prepared in conformance with Commission guidance being published in the Federal Register.” ¹¹²

¹¹⁰ EEI at 11.

¹¹¹ Id. at 11-12.

¹¹² Id. at 12.

3. Commission Determination

47. We direct EQR sellers to comply with the changes to the process for filing EQRs beginning with the Q3 2013 EQR, providing data for July through September 2013. We find that this time period provides EQR sellers with sufficient time to choose between the two filing options, transition to the new filing process, and file their Q3 2013 EQR in a timely manner. We disagree with commenters that argue that EQR sellers will need up to a year to adapt to the new filing options. As explained above,¹¹³ the web interface option will operate similar to the current software and should not require significant changes to an EQR seller's existing internal system. An EQR seller that would like to file using the XML option, but is not prepared to do so by the filing deadline for Q3 2013 EQR, can file through the web interface until it is able to transition to the XML option.

¹¹³ See discussion supra section III.A.

48. Starting with Q3 of 2013, we will no longer be able to accept EQR filings submitted through the current EQR software. In the Transparency Rule, the Commission revised the EQR filing requirements, adding some fields and deleting others.¹¹⁴ Due to technical limitations, the Commission cannot add the new fields to the current EQR software. Therefore, consistent with the compliance deadline in the Transparency Rule, EQR sellers must file using the new filing process beginning with Q3 of 2013.

¹¹⁴ Transparency Rule, FERC Stats. & Regs. ¶ 31,336.

49. As explained throughout this Final Rule, the Commission will assist EQR sellers and agents in transitioning to the new filing process. The Commission directs staff to hold technical conferences to explain the new filing process as needed. However, the Commission will not offer a live demonstration of the new EQR filing options because the technology is still in development and will not be completed until after the rulemaking process is complete.

50. The Commission cannot pre-populate the new filing Web interface with Q2 2013 EQR data because the Web interface will include new fields that will not be present in the Q2 2013 EQR. However, we remind EQR sellers and agents that the current EQR software includes the ability to export a CSV file. EQR sellers and agents can export a CSV file from the EQR software that companies could then use, after revisions have been made to accommodate new requirements, to import into the new web-based system.

51. We agree with EEI that the reference to “as otherwise provided to the public” in the proposed regulatory text is ambiguous. Accordingly, we have removed that phrase from the regulatory text adopted in this Final Rule, and adopt text that states that “Electric Quarterly Reports must be prepared in conformance with the Commission's guidance posted on the FERC Web site (http://www.ferc.gov).” We disagree with EEI that the Commission should publish a notice in the Federal Register every time the Commission posts new guidance on the Commission's Web site. The Commission publishes notices when it proposes changes to existing requirements, but we do not find it necessary to publish a notice in the Federal Register whenever the Commission posts, for example, answers to frequently asked questions.

IV. Information Collection Statement

52. The Office of Management and Budget (OMB) requires that OMB approve certain information collection and data retention requirements imposed by agency rules.¹¹⁵ Therefore, the Commission is submitting the proposed modifications to its information collection statement to OMB for review and approval in accordance with section 3507(d) of the Paperwork Reduction Act of 1995.¹¹⁶

¹¹⁵ 5 CFR 1320.11(b) (2010).

¹¹⁶ 44 U.S.C. 3507(d) (2006).

53. OMB's regulations require approval of certain information collection requirements imposed by agency rules. Upon approval of a collection(s) of information, OMB will assign an OMB control number and an expiration date. Respondents subject to the filing requirements of a rule will not be penalized for failing to respond to these collections of information unless the collections of information display a valid OMB control number.

54. The Commission is submitting these reporting requirements to OMB for its review and approval under section 3507(d) of the Paperwork Reduction Act. Comments were solicited on the Commission's need for this information; whether the information will have practical utility; the accuracy of provided burden estimates; ways to enhance the quality, utility, and clarity of the information to be collected; and any suggested methods for minimizing the respondent's burden, including the use of automated information techniques.¹¹⁷

¹¹⁷ NOPR, FERC Stats. & Regs. ¶ 32,689 at P 13.

55. Some commenters question the Commission's burden estimate.¹¹⁸ Energy Compliance Consulting states that there is no explanation of why a utility's membership in a regional transmission organization (RTO) would affect its filing burden.¹¹⁹ Energy Compliance Consulting also states that it is unclear whether the burden estimate assumes how many, if any, utilities will move to the new XML format.¹²⁰ Pacific Gas and Electric asserts that the Commission's burden estimates fall short of the cost of transitioning to the XML option.¹²¹

¹¹⁸ See, e.g., Energy Compliance at 5; Pacific Gas and Electric at 6.

¹¹⁹ Energy Compliance Consulting at 5.

¹²⁰ Energy Compliance Consulting at 5.

¹²¹ Pacific Gas and Electric at 6.

56. We find that a public utility's membership in an RTO or independent transmission system operator (ISO) should not affect the burden of complying with the Final Rule. Consequently, for this Final Rule, we estimate that the one-time burden hours, the recurring burden hours, and the average annual burden hours will be the same for all EQR sellers, irrespective of membership in an RTO or ISO. We have broken out EQR sellers by RTO/ISO membership status simply to be consistent with the way that the Commission estimated the average burden per respondent associated with the existing EQR system in a separate filing submitted to OMB.¹²²

¹²² See NOPR, Stats. & Regs. ¶ 32,689 at n.17.

57. In the NOPR, the Commission estimated the number of hours required for public utilities to comply with the minimum requirements included in the NOPR. While public utilities may opt to use the XML option, we consider the move to the Web interface to be a less burdensome option for public utilities because it builds upon the automated systems that they have developed to enter data into the current EQR software. Thus, the Commission's burden estimate did not estimate how many public utilities will voluntarily transition to the XML option or the number of hours required for a public utility to transition to the XML option.

58. The Commission's estimates of the average public reporting burden and cost related to the proposed rule in Docket RM12-3-000 are as follows:

Final Rule in RM12-3-000 on Electric Quarterly Report
| Number of respondents | Number of responses per respondent per year | Implementing (one-time) burden per respondent: Burden hours | Implementing (one-time) burden per respondent: Cost ($) | Recurring operating burden per respondent per response ¹²³: Burden hours ¹²⁴ | Recurring operating burden per respondent per response ¹²³: Cost ($) | Average annual burden per respondent (implementation averaged over years 1-3): Burden hours | Average annual burden per respondent (implementation averaged over years 1-3): Cost ($)
Companies within non-California RTO, and large cos. within Cal. RTO | 405 | 4 | 20 | $1,434.50 | no change | no change | 6.67 | $478.17.
Medium/small companies within Cal. RTO | 20 | 4 | 20 | $1,434.50 | no change | no change | 6.67 | $478.17.
Companies not within RTO | 663 | 4 | 20 | $1,434.50 | no change | no change | 6.67 | $478.17.
Companies with no transactions | 695 | 4 | 20 | $1,434.50 | no change | no change | 6.67 | $478.17.
Sub-Total—All Public Utilities (Existing Filers) | 1,783 | 4 | 35,660 | $2,557,713.50 | no change | no change | 11,892.61 | $852,577.11.
Non Public Utilities (New Filers) | 53 | 4 |  |  | no change | no change | no change | no change.
Total—All Utilities | 1,836 | 4 | 35,660 | $2,557,713.50 | no change | no change | 11,892.61 | $852,577.11.

59. The total estimated one-time implementation burden and cost for all respondents is 35,660 hours (1,783 × 20 hours), and $2,557,713.50 (1,783 × $1,434.50). Averaging this one-time implementation burden and cost over Years 1-3 yields an annual total burden of 11,892.61 hours (1,783 × 6.67) and an annual total cost of $852,577.11 (1,783 × $478.17)

¹²³ The Commission expects no change or a slight decrease in the Recurring Operating Burden per Respondent per Response under the new filing system (when compared to quarterly filings for current filers under the existing system).

¹²⁴ For the current EQR software and reporting requirements, the Commission estimates the average burden per respondent per quarterly filing to be: 32 hours for Companies within non-California RTO, and large companies within the California RTO; 80 hours for medium/small Companies within the California RTO; 3 hours for Companies not within an RTO; and 0.083 hours [5 minutes] for Companies with no transactions.

60. We recognize that there will be an initial implementation burden for current EQR sellers (filers) associated with reviewing instructions, revising filing process, obtaining a Company Identifier, designating an agent(s), and filing EQR data through the new system. We estimate a burden of 20 hours per existing respondent for this one-time, initial implementation burden. The Transparency Rule requires non-public utilities to file EQRs for the first time in Q3 of 2013, consistent with the implementation date of this Final Rule.¹²⁵ Non-public utilities will file for the first time using the new filing options and will not need to transition from the current EQR software. Therefore, we estimate no change for non-public utilities.

¹²⁵ Transparency Rule, FERC Stats. & Regs. ¶ a P 31,336. The burden on non-public utilities associated with filing EQRs was captured in the Transparency Rule. In the Transparency Rule, the Commission estimated per non-public utility 400 hours for one-time implementation, and 19 hours for recurring burden for each quarterly filing. The estimated average annual burden per non-public utility (with implementation averaged over Years 1-3) was 209.33 hours.

61. To help with the implementation of this Final Rule, we will direct Commission staff to convene a staff-led technical conference for industry participants to demonstrate the two new options for filing EQRs. The conference will be available by webcast, which should minimize travel and other costs associated with participation in the conference. We will also direct staff to assist in transitioning to the new process. Commission staff's technical conference and assistance should minimize the initial implementation burden.

62. For the recurring effort involved in electronically submitting EQR data on a quarterly basis to the Commission, we anticipate that there will be no change or a slight burden reduction for current filers compared to the burden of making quarterly filings under the current system.

Information Collection Costs: We estimate the cost of compliance per existing respondent will be $1,434.50, for one-time implementation of the changes proposed in this Final Rule. We estimate that the implementation costs will be as follows: ¹²⁶

¹²⁶ Hourly average wage is an average and was calculated using Bureau of Labor Statistics (BLS), Occupational Employment Statistics data for May 2011 (for NAICS 221100—Electric Power Generation, Transmission and Distribution, at http://bls.gov/oes/current/naics4_221100.htm#00-0000) for the senior accountant, financial analyst, information technology analyst, and support staff. The average hourly figure for legal staff is a composite from BLS and other resources.

• Legal staff (at $250/hour), for 2 hours, costing $500

• Senior accountant (at $51.38/hr.), financial analyst (at $68.12/hr.), and/or support staff (at $35.99/hr.), averaged at $51.83/hr., for a total of 2 hours, costing $103.66

• Information technology analyst (at $57.24/hour), for 12 hours, costing $686.88

• Support staff (at $35.99/hr), for 4 hours, costing $143.96.

TITLE: FERC-920,¹²⁷ Electric Quarterly Report, OMB Control No. 1902-0255.

¹²⁷ The Commission is separating the EQR reporting requirements from the remaining reporting requirements under FERC-516 (Electric Rate Schedules and Tariff Filings, OMB Control No. 1902-0096). After implementation of this Final Rule and issuance of an OMB decision, the EQR burden figures will be removed from FERC-516.

Action: Proposed new EQR filing system and associated additional reporting requirements.

Respondents: Electric utilities.

Frequency of Responses: Initial implementation and quarterly filings (beginning Q3 of 2013).

Need For Information: We are implementing changes to the method for filing EQRs. We are replacing a filing system that requires the use of Commission software with a system that would allow an EQR seller to file EQR data directly through the Commission's Web site, either through a Web interface or by submitting an XML-formatted file. We are also requiring the EQR seller to identify itself with a Company Identifier that will be assigned through the Commission's Company Registration System.

Internal Review: We have reviewed the changes and determined that the changes are necessary. These requirements conform to the Commission's need for efficient information collection, communication, and management within the energy industry. We have assured ourselves, by means of internal review, that there is specific, objective support for the burden estimates associated with the information collection requirements.

63. Interested persons may obtain information on the reporting requirements by contacting: Federal Energy Regulatory Commission, 888 First Street NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Please reference OMB Control No. 1902-0255, FERC-920, and Docket No. RM12-3 in your submission.

V. Environmental Analysis

64. The Commission is required to prepare an Environmental Assessment or an Environmental Impact Statement for any action that may have a significant adverse effect on the human environment.¹²⁸ The actions taken here fall within categorical exclusions in the Commission's regulations for information gathering, analysis, and dissemination.¹²⁹ Therefore, an environmental assessment is unnecessary and has not been prepared in this rulemaking.

¹²⁸ Regulations Implementing the National Environmental Policy Act, Order No. 486, 52 FR 47897 (Dec. 17, 1987), FERC Stats. & Regs. Preambles 1986-1990 ¶ 30,783 (1987).

¹²⁹ 18 CFR 380.4(a)(5).

VI. Regulatory Flexibility Act

65. The Regulatory Flexibility Act of 1980 (RFA) ¹³⁰ generally requires a description and analysis of final rules that will have significant economic impact on a substantial number of small entities. The RFA mandates consideration of regulatory alternatives that accomplish the stated objectives of a proposed rule and that minimize any significant economic impact on a substantial number of small entities. The SBA's Office of Size Standards develops the numerical definition of a small business.¹³¹ The SBA has established a size standard for electric utilities, stating that a firm is small if, including its affiliates, it is primarily engaged in the transmission, generation and/or distribution of electric energy for sale and its total electric output for the preceding twelve months did not exceed 4,000,000 MWh.¹³²

¹³⁰ 5 U.S.C. 601-612.

¹³¹ 13 CFR 121.101.

¹³² 13 CFR 121.201, Sector 22, Utilities & n.1.

66. As discussed in Order No. 2000,¹³³ in making this determination, the Commission is required to examine only the direct compliance costs that a rulemaking imposes upon small businesses. It is not required to consider indirect economic consequences, nor is it required to consider costs that an entity incurs voluntarily.

¹³³ See Regional Transmission Organizations, Order No. 2000, 65 FR 809 (Jan. 6, 2000), FERC Stats. & Regs. ¶ 31,089, at 31,237 & n.754 (1999), order on reh'g, Order No. 2000-A, 65 FR 12,088 (Mar. 8, 2000), FERC Stats. & Regs. ¶ 31,092 (2000), aff'd sub nom. Pub. Util. Dist. No. 1 of Snohomish, County Washington v. FERC, 272 F.3d 607, 348 U.S. App. DC 205 (DC Cir. 2001) (citing Mid-Tex Elec. Coop. v. FERC, 773 F.2d 327 (DC Cir. 1985) (Commission need only consider small entities “that would be directly regulated”); Colorado State Banking Bd. v. RTC, 926 F.2d 931 (10th Cir. 1991) (Regulatory Flexibility Act not implicated where regulation simply added an option for affected entities and did not impose any costs)).

67. For non-public utilities, the Commission exempts under the de minimis market presence threshold non-public utilities that make 4,000,000 MWh or less of annual wholesale sales (based on an average of the wholesale sales it made in the preceding three years).¹³⁴ This de minimis threshold excludes small, non-public utilities. Therefore, this Final Rule will not have a significant economic impact on any small, non-public utility.

¹³⁴ Transparency Rule, FERC Stats. & Regs. ¶ 31,336 at P 54.

68. For public utilities, based on analysis of the EQR filings made in the four quarters of 2011, there are 1,783 entities that currently file an EQR, but given clearly identifiable affiliate relationships that number is reduced to 1,215 entities. Of those, 97 reported more than 4,000,000 MWh of wholesale sales in the EQR. Of the remaining 1,118 entities that reported less than 4,000,000 MWh of wholesales sales in the EQR, 641 filed transactions in the EQR. The rest that would be subject to this Final Rule, 477 entities, did not file transactions in any quarter of 2011; we conclude that this Final Rule will minimally affect them.

69. As for the remaining 641 entities, we note that there are two types of companies among those currently filing EQRs that merit additional consideration. First, there are investor-owned public utilities that make both wholesale and retail sales. The SBA's definition of a small utility is based on a utility's total electric output for the preceding twelve months, which includes a public utility's retail sales. However, our estimate in this section is based on information available in the EQR, which includes annual wholesale sales but not retail sales. If we were able to include retail sales, we believe that most investor-owned public utilities that currently file EQRs make more than 4,000,000 MWh annual wholesale and retail sales and thus would not be classified as small. Second, there are power marketers that often do not own or control generation or transmission and may be affiliated with companies that are not primarily engaged in the sale of electric energy (such as financial institutions or hedge funds).¹³⁵ However, information regarding whether a power marketer is affiliated with another company is generally not included in an EQR filing, making it difficult to determine the number of small entities that are affiliated with a larger company, thereby leading to an inflated estimate of the number of companies affected by this Final Rule that are truly small.

¹³⁵ Some of these such as Google, Occidental Chemical and ONEOK may not qualify as small in their primary area of business and are participating in the electric market as part of an overall corporate strategy.

70. Furthermore, to ease the burden of implementation for all EQR sellers, we will minimize the changes which EQR sellers will experience because the Commission is adopting two options for filing EQRs: the Web interface and XML. The estimated one-time implementation cost per EQR seller is $1,434.50. We anticipate no change or a slight reduction in the burden for the recurring quarterly EQR filings. In addition, small entities generally have few or no transactions and corresponding minimal recurring burden. We note that EQR sellers may request, on an individual basis, waiver from the Commission's EQR reporting requirements. Thus, we certify that this proposed rule will not have a significant impact on a substantial number of small entities.

VII. Document Availability

71. In addition to publishing the full text of this document in the Federal Register, the Commission provides all interested persons an opportunity to view and/or print the contents of this document via the Internet through FERC's Home Page (http://www.ferc.gov) and in FERC's Public Reference Room during normal business hours (8:30 a.m. to 5:00 p.m. Eastern time) at 888 First Street NE., Room 2A, Washington DC 20426.

72. From FERC's Home Page on the Internet, this information is available on eLibrary. The full text of this document is available on eLibrary in PDF and Microsoft Word format for viewing, printing, and/or downloading. To access this document in eLibrary, type the docket number excluding the last three digits of this document in the docket number field.

73. User assistance is available for eLibrary and the FERC's Web site during normal business hours from FERC Online Support at (202) 502-6652 (toll free at 1-866-208-3676) or email at ferconlinesupport@ferc.gov, or the Public Reference Room at (202) 502-8371, TTY (202) 502-8659. Email the Public Reference Room at public.referenceroom@ferc.gov.

VIII. Effective Date and Congressional Notification

74. These regulations are effective April 1, 2013. The Commission has determined, with the concurrence of the Administrator of the Office of Information and Regulatory Affairs of OMB, that this rule is not a “major rule” as defined in section 351 of the Small Business Regulatory Enforcement Fairness Act of 1996.

List of Subjects in 18 CFR Part 35

Electric power rates, Electric utilities, Reporting and recordkeeping requirements.

By direction of the Commission.
Nathaniel J. Davis, Sr.,
Deputy Secretary.

In consideration of the foregoing, the Commission amends 18 CFR part 35 as follows:

PART 35—FILIING OF RATE SCHEDULES AND TARIFFS

1. The authority citation for Part 35 continues to read as follows:

Authority: 16 U.S.C. 791a-825r, 2601-2645; 31 U.S.C. 9701; 42 U.S.C. 7101-7352.

2. Section 35.10b is amended by revising the second sentence to read as follow:

§ 35.10b Electric Quality Reports.

* * * Electric Quarterly Reports must be prepared in conformance with the Commission's guidance posted on the FERC Web site (http://www.ferc.gov).

Note: The following appendices A and B will not appear in the Code of Federal Regulations:

Appendix A: Abbreviated Names of Commenters
Commenters | Abbreviation
California Independent System Operator Corporation | CAISO
Edison Electric Institute | EEI
Electric Power Supply Association | EPSA
Energy Compliance Consulting, LLC | Energy Compliance Consulting
Energy Services Providers, Inc., | Energy Services Providers
Connecticut Gas & Electric, Inc., and Massachusetts Gas & Electric Inc. |
Idaho Power Company | Idaho Power
Links Technology | Links
Solutions, Inc. | Technology Solutions
Pacific Gas and Electric Company | Pacific Gas and Electric
Southern California Edison Company | Southern California Edison

Appendix B: EQR Data Dictionary

Electric Quarterly Report Data Dictionary Version 2.1 (issued November 15, 2012) ¹³⁶

¹³⁶ This version of Appendix B replaces the version that was included with Revisions to Electric Quarterly Report Filing Process, Order No. 770, 141 FERC ¶ 61,120 (2012).

EQR Data Dictionary
Field No.: Old | Field No.: New | Field | Required | Value | Definition
ID Data
1 | 1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | 1 | Filer Unique Identifier | ✓ | FA1 | (Agent)—An identifier (i.e., “FA1”) used to designate a record containing Agent identification information in a comma-delimited (csv) file that is imported into the EQR filing. Only one record with the FA1 identifier may be imported into an EQR for a given quarter.
2 | 2 | Company Name | ✓ | Unrestricted text (100 characters) | (Seller)—The name of the company that is authorized to make sales as indicated in the company's FERC tariff(s).
2 | 2 | Company Name | ✓ | Unrestricted text (100 characters) | (Agent)—The name of the entity completing the EQR filing. The Agent's Company Name need not be the name of the company under Commission jurisdiction.
3 | X |  |  |  |
| 3 | Company Identifier | ✓ | A 7-digit integer proceeded by the letter “C” | (Seller)—Identifier obtained through the Commission's Company Registration system.
3 | 4 | Contact Name | ✓ | Unrestricted text (50 characters) | (Seller)—The name of the contact for the company authorized to make sales as indicated in the company's FERC tariff(s).
3 | 4 | Contact Name | ✓ | Unrestricted text (50 characters) | (Agent)—Name of the contact for the Agent, usually the person who prepares the filing.
4 | 5 | Contact Title | ✓ | Unrestricted text (50 characters) | Title of contact identified in Field Number 4.
5 | 6 | Contact Address | ✓ | Unrestricted text | Street address for contact identified in Field Number 4.
6 | 7 | Contact City | ✓ | Unrestricted text (30 characters) | City for the contact identified in Field Number 4.
7 | 8 | Contact State | ✓ | Unrestricted text (2 characters) | Two character state or province abbreviations for the contact identified in Field Number 4.
8 | 9 | Contact Zip | ✓ | Unrestricted text (10 characters) | Zip code for the contact identified in Field Number 4.
9 | 10 | Contact Country Name | ✓ | CA—Canada MX—Mexico US—United States UK—United Kingdom | Country (USA, Canada, Mexico, or United Kingdom) for contact address identified in Field Number 4.
10 | 11 | Contact Phone | ✓ | Unrestricted text (20 characters) | Phone number of contact identified in Field Number 4.
11 | 12 | Contact E-Mail | ✓ | Unrestricted text | E-mail address of contact identified in Field Number 4.
12 | 13 | Transactions Reported to Index Price Publisher(s) | ✓ | Y (Yes) N (No) | Filers should indicate whether they have reported their sales transactions to index price publisher(s). If they have, filers should indicate specifically which index publisher(s) in Field Number 73.
13 | 14 | Filing Quarter | ✓ | YYYYMM | A six digit reference number used by the EQR software to indicate the quarter and year of the filing for the purpose of importing data from csv files. The first 4 numbers represent the year (e.g., 2007). The last 2 numbers represent the last month of the quarter (e.g., 03=1st quarter; 06=2nd quarter, 09=3rd quarter, 12=4th quarter).
EQR Data Dictionary Contract Data
14 | 15 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | 16 | Seller Company Name | ✓ | Unrestricted text (100 characters) | The name of the company that is authorized to make sales as indicated in the company's FERC tariff(s). This name must match the name provided as a Seller's “Company Name” in Field Number 2 of the ID Data (Seller Data).
16 | 17 | Customer Company Name | ✓ | Unrestricted text (70 characters) | The name of the counterparty.
17 | X |  |  |  |
17 | 18 | Contract Affiliate | ✓ | Y (Yes) N (No) | The customer is an affiliate if it controls, is controlled by or is under common control with the seller. This includes a division that operates as a functional unit. A customer of a seller who is an Exempt Wholesale Generator may be defined as an affiliate under the Public Utility Holding Company Act and the FPA.
18 | 19 | FERC Tariff Reference | ✓ | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
19 | 20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
20 | 21 | Contract Execution Date | ✓ | YYYYMMDD | The date the contract was signed. If the parties signed on different dates, use the most recent date signed.
21 | 22 | Commencement Date of Contract Terms | ✓ | YYYYMMDD | The date the terms of the contract reported in fields 18, 23 and 25 through 44 (as defined in the data dictionary) became effective. If those terms became effective on multiple dates (i.e.: due to one or more amendments), the date to be reported in this field is the date the most recent amendment became effective. If the contract or the most recent reported amendment does not have an effective date, the date when service began pursuant to the contract or most recent reported amendment may be used. If the terms reported in fields 18, 23 and 25 through 44 have not been amended since January 1, 2009, the initial date the contract became effective (or absent an effective date the initial date when service began) may be used.
22 | 23 | Contract Termination Date | If specified in the contract | YYYYMMDD | The date that the contract expires.
23 | 24 | Actual Termination Date Extension | If contract terminated | YYYYMMDD | The date the contract actually terminates.
24 | 25 | Extension Provision Description | ✓ | Unrestricted text | Description of terms that provide for the continuation of the contract.
25 | 26 | Class Name | ✓ |  | See definitions of each class name below.
25 | 26 | Class Name | ✓ | F—Firm | For transmission sales, a service or product that always has priority over non-firm service. For power sales, a service or product that is not interruptible for economic reasons.
25 | 26 | Class Name | ✓ | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
25 | 26 | Class Name | ✓ | UP—Unit Power Sale | Designates a dedicated sale of energy and capacity from one or more than one specified generation unit(s).
25 | 26 | Class Name | ✓ | N/A—Not Applicable | To be used only when the other available Class Names do not apply.
26 | 27 | Term Name | ✓ | LT—Long Term ST—Short Term N/A—Not Applicable | Contracts with durations of one year or greater are long-term. Contracts with shorter durations are short-term.
27 | 28 | Increment Name | ✓ |  | See definitions for each increment below.
27 | 28 | Increment Name | ✓ | H—Hourly | Terms of the contract (if specifically noted in the contract) set for up to 6 consecutive hours (≤ 6 consecutive hours).
27 | 28 | Increment Name | ✓ | D—Daily | Terms of the contract (if specifically noted in the contract) set for more than 6 and up to 60 consecutive hours (>6 and ≤ 60 consecutive hours).
27 | 28 | Increment Name | ✓ | W—Weekly | Terms of the contract (if specifically noted in the contract) set for over 60 consecutive hours and up to 168 consecutive hours (>60 and ≤ 168 consecutive hours).
27 | 28 | Increment Name | ✓ | M—Monthly | Terms of the contract (if specifically noted in the contract) set for more than 168 consecutive hours up to, but not including, one year (>168 consecutive hours and < 1 year).
27 | 28 | Increment Name | ✓ | Y—Yearly | Terms of the contract (if specifically noted in the contract) set for one year or more (≥ 1 year).
27 | 28 | Increment Name | ✓ | N/A—Not Applicable | Terms of the contract do not specify an increment.
28 | 29 | Increment Peaking Name | ✓ |  | See definitions for each increment peaking name below.
28 | 29 | Increment Peaking Name | ✓ | FP—Full Period | The product described may be sold during those hours designated as on-peak and off-peak in the NERC region of the point of delivery.
28 | 29 | Increment Peaking Name | ✓ | OP—Off-Peak | The product described may be sold only during those hours designated as off-peak in the NERC region of the point of delivery.
28 | 29 | Increment Peaking Name | ✓ | P—Peak | The product described may be sold only during those hours designated as on-peak in the NERC region of the point of delivery.
28 | 29 | Increment Peaking Name | ✓ | N/A—Not Applicable | To be used only when the increment peaking name is not specified in the contract.
29 | 30 | Product Type Name | ✓ |  | See definitions for each product type below.
29 | 30 | Product Type Name | ✓ | CB—Cost Based | Energy or capacity sold under a FERC-approved cost-based rate tariff.
29 | 30 | Product Type Name | ✓ | CR—Capacity Reassignment | An agreement under which a transmission provider sells, assigns or transfers all or portion of its rights to an eligible customer.
29 | 30 | Product Type Name | ✓ | MB—Market Based | Energy or capacity sold under the seller's FERC-approved market-based rate tariff.
29 | 30 | Product Type Name | ✓ | T—Transmission | The product is sold under a FERC-approved transmission tariff.
29 | 30 | Product Type Name | ✓ | Other | The product cannot be characterized by the other product type names.
30 | 31 | Product Name | ✓ | See Product Name Table, Appendix A | Description of product being offered.
31 | 32 | Quantity | If specified in the contract | Number with up to 4 decimals | Quantity for the contract product identified.
32 | 33 | Units | If specified in the contract | See Units Table, Appendix E | Measure stated in the contract for the product sold.
33 | 34 | Rate | One of four rate fields (34, 35, 36, or 37) must be included | Number with up to 4 decimals | The charge for the product per unit as stated in the contract.
34 | 35 | Rate Minimum | One of four rate fields (34, 35, 36, or 37) must be included | Number with up to 4 decimals | Minimum rate to be charged per the contract, if a range is specified.
35 | 36 | Rate Maximum | One of four rate fields (34, 35, 36, or 37) must be included | Number with up to 4 decimals | Maximum rate to be charged per the contract, if a range is specified.
36 | 37 | Rate Description | One of four rate fields (34, 35, 36, or 37) must be included | Unrestricted text | Text description of rate. If the rate is currently available on the FERC Web site, a citation of the FERC Accession Number and the relevant FERC tariff including page number or section may be included instead of providing the entire rate algorithm. If the rate is not available on the FERC Web site, include the rate algorithm, if rate is calculated. If the algorithm would exceed the 150 character field limit, it may be provided in a descriptive summary (including bases and methods of calculations) with a detailed citation of the relevant FERC tariff including page number and section. If more than 150 characters are required, the contract product may be repeated in a subsequent line of data until the rate is adequately described.
37 | 38 | Rate Units | If specified in the contract | See Rate Units Table, Appendix F | Measure stated in the contract for the product sold.
38 | 39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
39 | 40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. `Various,' alone, is unacceptable unless the contract itself uses that terminology.
40 | 41 | Point of Delivery Balancing Authority (PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
41 | 42 | Point of Delivery Specific Location (PODSL) | If specified in the contract | Unrestricted text (50 characters). If “HUB” is selected for PODCA, see Hub Table, Appendix C | The specific location at which the product is delivered if designated in the contract. If receipt occurs at a trading hub, a standardized hub name must be used.
42 | 43 | Begin Date | If specified in the contract | YYYYMMDDHHMM | First date for the sale of the product at the rate specified.
43 | 44 | End Date | If specified in the contract | YYYYMMDDHHMM | Last date for the sale of the product at the rate specified.
45 | X |  |  |  |
Transaction Data
44 | 45 | Transaction Unique ID | ✓ | An integer proceeded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
45 | 46 | Seller Company Name | ✓ | Unrestricted text (100 Characters) | The name of the company that is authorized to make sales as indicated in the company's FERC tariff(s). This name must match the name provided as a Seller's “Company Name” in Field 2 of the ID Data (Seller Data).
46 | 47 | Customer Company Name | ✓ | Unrestricted text (70 Characters) | The name of the counterparty.
49 | X |  |  |  |
47 | 48 | FERC Tariff Reference | ✓ | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
48 | 49 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
49 | 50 | Transaction Unique Identifier | ✓ | Unrestricted text (24 Characters) | Unique reference number assigned by the seller for each transaction.
50 | 51 | Transaction Begin Date | ✓ | YYYYMMDDHHMM (csv import); MMDDYYYYHHMM (manual entry) | First date and time the product is sold during the quarter.
51 | 52 | Transaction End Date | ✓ | YYYYMMDDHHMM (csv import); MMDDYYYYHHMM (manual entry) | Last date and time the product is sold during the quarter.
52 | 53 | Trade Date | ✓ | YYYYMMDD (csv import); MMDDYYYY (manual entry) | The date upon which the parties made the legally binding agreement on the price of a transaction.
53 | 54 | Exchange/Brokerage Service |  | See Exchange/Brokerage Service Table, Appendix H | If a broker service is used to consummate or effectuate a transaction, the term “Broker” shall be selected from the Commission-provided list. If an exchange is used, the specific exchange that is used shall be selected from the Commission-provided list.
54 | 55 | Type of Rate | ✓ |  | See type of rate definitions below.
54 | 55 | Type of Rate | ✓ | Fixed | A fixed charge per unit of consumption.
54 | 55 | Type of Rate | ✓ | Formula | A calculation of a rate based upon a formula that does not contain an index component.
54 | 55 | Type of Rate | ✓ | Electric Index | A calculation of a rate based upon an index or a formula that contains an index component.
54 | 55 | Type of Rate | ✓ | RTO/ISO | A rate that is based on an RTO/ISO published price or formula that contains an RTO/ISO price component.
55 | 56 | Time Zone | ✓ | See Time Zone Table, Appendix D | The time zone in which the sales will be made under the contract.
56 | 57 | Point of Delivery Balancing Authority (PODBA) | ✓ | See Balancing Authority Table, Appendix B | The registered NERC Balancing Authority (formerly called NERC Control Area) abbreviation used in OASIS applications.
57 | 58 | Point of Delivery Specific Location (PODSL) | ✓ | Unrestricted text (50 characters). If “HUB” is selected for PODBA, see Hub Table, Appendix C | The specific location at which the product is delivered. If receipt occurs at a trading hub, a standardized hub name must be used.
58 | 59 | Class Name | ✓ |  | See class name definitions below.
58 | 59 | Class Name | ✓ | F—Firm | A sale, service or product that is not interruptible for economic reasons.
58 | 59 | Class Name | ✓ | NF—Non-firm | A sale for which delivery or receipt of the energy may be interrupted for any reason or no reason, without liability on the part of either the buyer or seller.
58 | 59 | Class Name | ✓ | UP—Unit Power Sale | Designates a dedicated sale of energy and capacity from one or more than one specified generation unit(s).
58 | 59 | Class Name | ✓ | BA—Billing Adjustment | Designates an incremental material change to one or more transactions due to a change in settlement results. “BA” may be used in a refiling after the next quarter's filing is due to reflect the receipt of new information. It may not be used to correct an inaccurate filing.
58 | 59 | Class Name | ✓ | N/A—Not Applicable; LT—Long Term | To be used only when the other available class names do not apply.
59 | 60 | Term Name | ✓ | ST—Short Term; N/A—Not Applicable | Power sales transactions with durations of one year or greater are long-term. Transactions with shorter durations are short-term.
60 | 61 | Increment Name | ✓ |  | See increment name definitions below.
60 | 61 | Increment Name | ✓ | H—Hourly | Terms of the particular sale set for up to 6 consecutive hours (≤ 6 consecutive hours) Includes LMP based sales in ISO/RTO markets.
60 | 61 | Increment Name | ✓ | D—Daily | Terms of the particular sale set for more than 6 and up to 60 consecutive hours (>6 and ≤ 60 consecutive hours). Includes sales over a peak or off-peak block during a single day.
60 | 61 | Increment Name | ✓ | W—Weekly | Terms of the particular sale set for over 60 consecutive hours and up to 168 consecutive hours (>60 and ≤ 168 consecutive hours). Includes sales for a full week and sales for peak and off-peak blocks over a particular week.
60 | 61 | Increment Name | ✓ | M—Monthly | Terms of the particular sale set for set for more than 168 consecutive hours up to, but not including, one year (>168 consecutive hours and < 1 year). Includes sales for full month or multi-week sales during a given month.
60 | 61 | Increment Name | ✓ | Y—Yearly | Terms of the particular sale set for one year or more (≥ 1 year). Includes all long-term contracts with defined pricing terms (fixed-price, formula, or index).
60 | 61 | Increment Name | ✓ | N/A—Not Applicable | To be used only when other available increment names do not apply.
61 | 62 | Increment Peaking Name | ✓ |  | See definitions for increment peaking below.
61 | 62 | Increment Peaking Name | ✓ | FP—Full Period | The product described was sold during Peak and Off-Peak hours.
61 | 62 | Increment Peaking Name | ✓ | OP—Off-Peak | The product described was sold only during those hours designated as off-peak in the NERC region of the point of delivery.
61 | 62 | Increment Peaking Name | ✓ | P—Peak | The product described was sold only during those hours designated as on-peak in the NERC region of the point of delivery.
61 | 62 | Increment Peaking Name | ✓ | N/A—Not Applicable | To be used only when the other available increment peaking names do not apply.
62 | 63 | Product Name | ✓ | See Product Names Table, Appendix A | Description of product being offered.
63 | 64 | Transaction Quantity | ✓ | Number with up to 4 decimals | The quantity of the product in this transaction.
64 | 65 | Price | ✓ | Number with up to 6 decimals | Actual price charged for the product per unit. The price reported cannot be averaged or otherwise aggregated.
65 | 66 | Rate Units | ✓ | See Rate Units Table, Appendix F | Measure appropriate to the price of the product sold.
66 | 67 | Standardized Quantity | ✓ | Number with up to 4 decimals | For product names energy, capacity, and booked out power only. Specify the quantity in MWh if the product is energy or booked out power and specify the quantity in MW if the product is capacity.
67 | 68 | Standardized Price | ✓ | Number with up to 6 decimals | For product names energy, capacity, and booked out power only. Specify the price in $/MWh if the product is energy or booked out power and specify the price in $/MW-month if the product is capacity.
68 | 69 | Total Transmission Charge | ✓ | Number with up to 2 decimals | Payments received for transmission services when explicitly identified.
69 | 70 | Total Transaction Charge | ✓ | Number with up to 2 decimals | Transaction Quantity (Field 64) times Price (Field 65) plus Total Transmission Charge (Field 69).
Index Reporting Data
70 | 71 | Filer Unique Identifier | ✓ | FS# (where “#” is an integer) | The “FS” seller number from the ID Data table corresponding to the index reporting company.
71 | 72 | Seller Company Name | ✓ | Unrestricted text (100 characters) | The name of the company that is authorized to make sales as indicated in the company's FERC tariff(s). This name must match the name provided as a Seller's “Company Name” in Field Number 2 of the ID Data (Seller Data).
72 | 73 | Index Price Publisher(s) To Which Sales Transactions Have Been Reported | ✓ | If “Yes” is selected for Field 13, see Index Price Publisher, Appendix G | The index price publisher(s) to which sales transactions have been reported.
73 | 74 | Transactions Reported | ✓ | Unrestricted text (100 characters) | Description of the types of transactions reported to the index publisher identified in this record.
e-Tag Data
74 | 75 | e-Tag ID | If an e-Tag ID was used to schedule the EQR transaction | Unrestricted text (30 Characters) | The e-Tag ID contains: The Source Balancing Authority where the generation is located; The Purchasing-Selling Balancing Authority Entity Code; the e-Tag Code; and the Sink Balancing Authority.
75 | 76 | e-Tag Begin Date | If an e-Tag ID was used to schedule the EQR transaction | YYYYMMDD (csv import); MMDDYYYY (manual entry) | The first date the transaction is scheduled using the e-Tag ID reported in Field Number 75. Begin Date must not be before the Transaction Begin Date specified in Field Number 51 and must be reported in the same time zone specified in Field Number 56.
76 | 77 | e-Tag End Date | If an e-Tag ID was used to schedule the EQR transaction | YYYYMMDD (csv import); MMDDYYYY (manual entry) | The last date the transaction is scheduled using the e-Tag ID reported in Field Number 75. End Date must not be after the Transaction End Date specified in Field Number 52 and must be reported in the same time zone specified in Field Number 56.
77 | 78 | Transaction Unique Identifier | If an e-Tag ID was used to schedule the EQR transaction | Unrestricted text (24 Characters) | Unique reference number assigned by the seller for each transaction that must be the same as reported in Field Number 50.

EQR Data Dictionary
[Appendix A. Product Names]
Product name | Contract product | Transaction product | Definition
BLACK START SERVICE | ✓ | ✓ | Service available after a system-wide blackout where a generator participates in system restoration activities without the availability of an outside electric supply (Ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation (Ancillary Service). For Contracts, reported if the contract provides for sale of the product. For Transactions, sales by third-party providers (i.e., non-transmission function) are reported.
EXCHANGE | ✓ | ✓ | Transaction whereby the receiver accepts delivery of energy for a supplier's account and returns energy at times, rates, and in amounts as mutually agreed if the receiver is not an RTO/ISO.
FUEL CHARGE | ✓ | ✓ | Charge based on the cost or amount of fuel used for generation.
GENERATOR IMBALANCE | ✓ | ✓ | Service provided when a difference occurs between the output of a generator located in the Transmission Provider's Control Area and a delivery schedule from that generator to (1) another Control Area or (2) a load within the Transmission Provider's Control Area over a single hour (Ancillary Service). For Contracts, reported if the contract provides for sale of the product. For Transactions, sales by third-party providers (i.e., non-transmission function) are reported.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓ | The loss of energy, resulting from transporting power over a transmission system.
REASSIGNMENT AGREEMENT | ✓ |  | Transmission capacity reassignment agreement.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service). For Contracts, reported if the contract provides for sale of the product. For Transactions, sales by third-party providers (i.e., non-transmission function) are reported.
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service). For Contracts, reported if the contract provides for sale of the product. For Transactions, sales by third-party providers (i.e., non-transmission function) are reported.
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service). For Contracts, reported if the contract provides for sale of the product. For Transactions, sales by third-party providers (i.e., non-transmission function) are reported.
SYSTEM OPERATING AGREEMENTS | ✓ |  | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

EQR Data Dictionary
[Appendix B. Balancing Authority]
Balancing authority | Abbreviation | Outside US*
AESC, LLC—Wheatland CIN | AEWC |
Alabama Electric Cooperative, Inc. | AEC |
Alberta Electric System Operator | AESO | ✓
Alliant Energy Corporate Services, LLC—East | ALTE |
Alliant Energy Corporate Services, LLC—West | ALTW |
Ameren Transmission. Illinois | AMIL |
Ameren Transmission. Missouri | AMMO |
American Transmission Systems, Inc. | FE |
Aquila Networks—Kansas | WPEK |
Aquila Networks—Missouri Public Service | MPS |
Aquila Networks—West Plains Dispatch | WPEC |
Arizona Public Service Company | AZPS |
Associated Electric Cooperative, Inc. | AECI |
Avista Corp. | AVA |
Batesville Balancing Authority | BBA |
BC Hydro T & D—Grid Operations | BCHA | ✓
Big Rivers Electric Corp. | BREC |
Board of Public Utilities | KACY |
Bonneville Power Administration Transmission | BPAT |
British Columbia Transmission Corporation | BCTC | ✓
California Independent System Operator | CISO |
Carolina Power & Light Company—CPLW | CPLW |
Carolina Power and Light Company—East | CPLE |
Central and Southwest | CSWS |
Chelan County PUD | CHPD |
Cinergy Corporation | CIN |
City of Homestead | HST |
City of Independence P&L Dept. | INDN |
City of Tallahassee | TAL |
City Water Light & Power | CWLP |
City Utilities of Springfield | SPRM |
Cleco Power LLC | CLEC |
Columbia Water & Light | CWLD |
Comision Federal de Electricidad | CFE | ✓
Comision Federal de Electricidad | CFEN | ✓
Constellation Energy Control and Dispatch | GRIF |
Constellation Energy Control and Dispatch—Arkansas | PUPP |
Constellation Energy Control and Dispatch—City of Benton, AR | BUBA |
Constellation Energy Control and Dispatch—City of Ruston, LA | DERS |
Constellation Energy Control and Dispatch—Conway, Arkansas | CNWY |
Constellation Energy Control and Dispatch—Gila River | GRMA |
Constellation Energy Control and Dispatch—Glacier Wind Energy | GWA |
Constellation Energy Control and Dispatch—Harquehala | HGMA |
Constellation Energy Control and Dispatch—North Little Rock, AK | DENL |
Constellation Energy Control and Dispatch—Osceola Municipal Light | OMLP |
Constellation Energy Control and Dispatch—Plum Point | PLUM |
Constellation Energy Control and Dispatch—Red Mesa | REDM |
Constellation Energy Control and Dispatch—West Memphis, Arkansas | WMUC |
Dairyland Power Cooperative | DPC |
DECA, LLC—Arlington Valley | DEAA |
Duke Energy Corporation | DUK |
East Kentucky Power Cooperative, Inc. | EKPC |
El Paso Electric | EPE |
Electric Energy, Inc. | EEI |
Empire District Electric Co., The | EDE |
Entergy | EES |
ERCOT ISO | ERCO |
Florida Municipal Power Pool | FMPP |
Florida Power & Light | FPL |
Florida Power Corporation | FPC |
Gainesville Regional Utilities | GVL |
Grand River Dam Authority | GRDA |
Grant County PUD No. 2 | GCPD |
Great River Energy | GRE |
Great River Energy | GREC |
Great River Energy | GREN |
Great River Energy | GRES |
GridAmerica | GA |
Hoosier Energy | HE |
Hydro-Quebec, TransEnergie | HQT | ✓
Idaho Power Company | IPCO |
Imperial Irrigation District | IID |
Indianapolis Power & Light Company | IPL |
ISO New England Inc. | ISNE |
JEA | JEA |
Kansas City Power & Light, Co | KCPL |
Lafayette Utilities System | LAFA |
LG&E Energy Transmission Services | LGEE |
Lincoln Electric System | LES |
Los Angeles Department of Water and Power | LDWP |
Louisiana Energy & Power Authority | LEPA |
Louisiana Generating, LLC | LAGN |
Louisiana Generating, LLC—City of Conway | CWAY |
Louisiana Generating, LLC—City of West Memphis | WMU |
Louisiana Generating, LLC—North Little Rock | NLR |
Madison Gas and Electric Company | MGE |
Manitoba Hydro Electric Board, Transmission Services | MHEB | ✓
Michigan Electric Coordinated System | MECS |
Michigan Electric Coordinated System—CONS | CONS |
Michigan Electric Coordinated System—DECO | DECO |
MidAmerican Energy Company | MEC |
Midwest ISO | MISO |
Minnesota Power, Inc. | MP |
Montana-Dakota Utilities Co. | MDU |
Muscatine Power and Water | MPW |
Nebraska Public Power District | NPPD |
Nevada Power Company | NEVP |
New Brunswick System Operator | NBSO | ✓
New Horizons Electric Cooperative | NHC1 |
New York Independent System Operator | NYIS |
Northern Indiana Public Service Company | NIPS |
Northern States Power Company | NSP |
NorthWestern Energy | NWMT |
Ohio Valley Electric Corporation | OVEC |
Oklahoma Gas and Electric | OKGE |
Ontario—Independent Electricity System Operator | ONT | ✓
OPPDCA/TP | OPPD |
Otter Tail Power Company | OTP |
P.U.D. No. 1 of Douglas County | DOPD |
PacifiCorp-East | PACE |
PacifiCorp-West | PACW |
PJM Interconnection | PJM |
Portland General Electric | PGE |
Public Service Company of Colorado | PSCO |
Public Service Company of New Mexico | PNM |
Puget Sound Energy Transmission | PSEI |
Reedy Creek Improvement District | RC |
Sacramento Municipal Utility District | SMUD |
Salt River Project | SRP |
Santee Cooper | SC |
SaskPower Grid Control Centre | SPC | ✓
Seattle City Light | SCL |
Seminole Electric Cooperative | SEC |
Sierra Pacific Power Co.—Transmission | SPPC |
South Carolina Electric & Gas Company | SCEG |
South Mississippi Electric Power Association | SME |
South Mississippi Electric Power Association | SMEE |
Southeastern Power Administration—Hartwell | SEHA |
Southeastern Power Administration—Russell | SERU |
Southeastern Power Administration—Thurmond | SETH |
Southern Company Services, Inc. | SOCO |
Southern Illinois Power Cooperative | SIPC |
Southern Indiana Gas & Electric Co. | SIGE |
Southern Minnesota Municipal Power Agency | SMP |
Southwest Power Pool | SWPP |
Southwestern Power Administration | SPA |
Southwestern Public Service Company | SPS |
Sunflower Electric Power Corporation | SECI |
Tacoma Power | TPWR |
Tampa Electric Company | TEC |
Tennessee Valley Authority ESO | TVA |
Trading Hub | HUB |
TRANSLink Management Company | TLKN |
Tucson Electric Power Company | TEPC |
Turlock Irrigation District | TIDC |
Upper Peninsula Power Co. | UPPC |
Utilities Commission, City of New Smyrna Beach | NSB |
Westar Energy—MoPEP Cities | MOWR |
Western Area Power Administration—Colorado-Missouri | WACM |
Western Area Power Administration—Lower Colorado | WALC |
Western Area Power Administration—Upper Great Plains East | WAUE |
Western Area Power Administration—Upper Great Plains West | WAUW |
Western Farmers Electric Cooperative | WFEC |
Western Resources dba Westar Energy | WR |
Wisconsin Energy Corporation | WEC |
Wisconsin Public Service Corporation | WPS |
Yadkin, Inc. | YAD |
* Balancing authorities outside the United States may only be used in the Contract Data section to identify specified receipt/delivery points in jurisdictional transmission contracts.

EQR Data Dictionary
[Appendix C. Hub]
HUB | Definition
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary
[Appendix D. Time Zone]
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

EQR Data Dictionary
[Appendix E. Units]
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

EQR Data Dictionary
[Appendix F. Rate Units]
Rate units | Definition
$/KV | dollars per kilovolt.
$/KVA | dollars per kilovolt amperes.
$/KVR | dollars per kilovar.
$/KW | dollars per kilowatt.
$/KWH | dollars per kilowatt hour.
$/KW-DAY | dollars per kilowatt day.
$/KW-MO | dollars per kilowatt month.
$/KW-WK | dollars per kilowatt week.
$/KW-YR | dollars per kilowatt year.
$/MW | dollars per megawatt.
$/MWH | dollars per megawatt hour.
$/MW-DAY | dollars per megawatt day.
$/MW-MO | dollars per megawatt month.
$/MW-WK | dollars per megawatt week.
$/MW-YR | dollars per megawatt year.
$/MVAR-YR | dollars per megavar year.
$/RKVA | dollars per reactive kilovar amperes.
CENTS | cents.
CENTS/KVR | cents per kilovolt amperes.
CENTS/KWH | cents per kilowatt hour.
FLAT RATE | rate not specified in any other units.

EQR Data Dictionary
[Appendix G. Index Price Publisher]
Index price publisher abbreviation | Index price publisher
AM | Argus Media.
EIG | Energy Intelligence Group, Inc.
IP | Intelligence Press.
P | Platts.
B | Bloomberg.
DJ | Dow Jones.
Pdx | Powerdex.
SNL | SNL Energy.

EQR Data Dictionary
[Appendix H. Exchange/Broker Services]
Exchange/brokerage service | Definition
BROKER | A broker was used to consummate or effectuate the transaction.
ICE | Intercontinental Exchange.
NYMEX | New York Mercantile Exchange.

[FR Doc. 2012-28230 Filed 11-29-12; 8:45 am]

BILLING CODE 6717-01-P